RAILROAD RETIREMENT BOARD

20 CFR Part 200

RIN 3220-AB48

Assessment or Waiver of Interest, Penalties, and Administrative Costs With Respect to Collection of Certain Debts

AGENCY: Railroad Retirement Board.

ACTION: Proposed rule.

SUMMARY: The Railroad Retirement Board (Board) hereby proposes to amend its regulations to conform those regulations to the practice of the agency to waive interest, penalties, and administrative costs where a debt is being recovered by setoff from current annuities and where the debt was not caused by fraud. This amendment will conform the regulation to current agency practice.

DATES: Submit comments on or before November 5, 2001.

ADDRESSES: Address any comments concerning this proposed rule to the secretary to the Board, Railroad Retirement Board, 844 North Rush Street, Chicago, Illinois 60611-2092.

FOR FURTHER INFORMATION CONTACT: Michael C. Litt, (312) 751-4929, TDD (312) 751-4701.

SUPPLEMENTARY INFORMATION: Section 200.7 of the Board's regulations provides for the assessment and waiver of interest, penalties, and administrative costs with respect to the collection of debts owed the Board. The Board proposes to amend its regulations so that the assessment of interest, penalties and administrative costs will be automatically waived in any case where the debt is being recovered by full or partial withholding of current annuities payable under the Railroad Retirement Act and where fraud on the part of the debtor is not involved. This amendment will conform the Board's regulations to Board policy regarding recovery of debts due to the Board. The Social Security Administration also follows this same practice.

The Board, with the concurrence of the Office of Management and Budget, has determined that this is not a significant regulatory action for purposes of Executive Order 12866. Therefore, no regulatory impact analysis is required. There are no information collections associated with this rule.

List of Subjects in 20 CFR Part 200

Railroad retirement.

For the reasons set out in the preamble, the Railroad Retirement Board proposes to amend 20 CFR part 200 as follows:

PART 200—GENERAL ADMINISTRATION

1. The authority citation for part 200 continues to read as follows:

Authority: 45 U.S.C. 231f(b)(5) and 45 U.S.C. 362; § 200.4 also issued under 5 U.S.C. 552; § 200.5 also issued under 5 U.S.C. 552a; § 200.6 also issued under 5 U.S.C. 552b; and § 200.7 also issued under 31 U.S.C. 3717.

2. Amend § 200.7 by adding a new paragraph (i) to read as follows:

§ 200.7 Assessment or waiver of interest, penalties, and administrative costs with respect to collection of certain debts.

* * * * *

(i) The Board shall waive the collection of interest, penalties, and administrative costs in any case where the debt to be recovered is being recovered by full or partial withholding of a current annuity payable under the Railroad Retirement Act and the debt was not incurred through fraud.

Dated: August 27, 2001.
By Authority of the Board.
Beatrice Ezerski,
Secretary to the Board.

[FR Doc. 01-22272 Filed 9-4-01; 8:45 am]

BILLING CODE 7905-01-P